NATIONAL AERONAUTICS AND SPACE ADMINISTRATION

[Notice (01-140)]

NASA Advisory Council (NAC), Space Science Advisory Committee (SScAC), Astronomical Search for Origins and Planetary Systems Subcommittee (OS); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee, Astronomical Search for Origins Planetary Systems Subcommittee.

DATES: Monday, December 3, 2001, 8:30 a.m. to 5 p.m., and Tuesday, December 4, 2001, 8:30 to 5 p.m.

ADDRESSES: Hilton Cocoa Beach Oceanfront, 1550 North Atlantic Avenue, Cocoa Beach, Florida 32931-3268.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—Origins Roadmap

—Astronomy and Physics Research Programs

—Astrobiology

—Stratospheric Observatory for Infrared Astronomy

—Government Performance and Results Act

It is imperative that the meeting be held on these dates to accommodate the scheduling priorities of the key participants. Visitors will be requested to sign a visitor's register.

Beth M. McCormick,
Advisory Committee Management Officer, National Aeronautics and Space Administration.

[FR Doc. 01-28141 Filed 11-8-01; 8:45 am]

BILLING CODE 7510-01-P